DEPARTMENT OF TRANSPORTATION

Coast Guard

33 CFR Parts 100 and 165

[USCG-2000-6822]

Safety Zones, Security Zones, and Special Local Regulations

AGENCY: Coast Guard, DOT.

ACTION: Notice of temporary rules issued.

SUMMARY: This document provides required notice of substantive rules adopted by the Coast Guard and temporarily effective between October 1, 1999 and December 31, 1999 which were not published in the Federal Register. This quarterly notice lists temporary local regulations, security zones, and safety zones of limited duration and for which timely publication in the Federal Register was not possible.

DATES: This notice lists temporary Coast Guard regulations that became effective and were terminated between October 1, 1999 and December 31, 1999.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact Lieutenant Junior Grade Bruce Walker, Office of Regulations and Administrative Law, telephone (202) 267-6233. For questions on viewing, or on submitting material to the docket, contact Dorothy Walker, Chief, Dockets, Department of Transportation (202) 866-9329.

SUPPLEMENTARY INFORMATION: District Commanders and Captains of the Port (COTP) must be immediately responsive to the safety needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas or other marine events. Timely publication of these regulations in the Federal Register is often precluded when a regulation responds to an emergency, or when an event occurs without sufficient advance notice. However, the affected public is informed of these regulations through Local Notices to Mariners, press releases, and other means. Moreover, actual notification is provided by Coast Guard patrol vessels enforcing the restrictions imposed by the regulation. Because mariners are notified by Coast Guard officials on-scene prior to enforcement action, Federal Register notice is not required to place the special local regulation, security zone, or safety zone in effect. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations and security zones listed in this notice have been exempted from review under Executive Order 12866 because of their emergency nature, or limited scope and temporary effectiveness.

The following regulations were placed in effect temporarily during the period October 1, 1999 and December 31, 1999, unless otherwise indicated.

Dated: February 11, 2000.
Pamela M. Pelcovits,
Chief, Office of Regulations and Administrative Law.

District Quarterly Report
District Docket | Location | Type | Effective Date
01-99-169 | LARCHMONT HARBOR, NEW YORK | SAFETY ZONE | 10/17/1999
01-99-170 | SALEM HARBOR, SALEM, MA | SAFETY ZONE | 10/16/1999
01-99-172 | FIREWORKS DISPLAY, WASTON PT, MIDDLETOWN, RI | SAFETY ZONE | 10/15/1999
01-99-177 | HUDSON RIVER, JERSEY CITY, NJ | SAFETY ZONE | 10/21/1999
01-99-179 | HUDSON RIVER, MANHATTAN, NY | SAFETY ZONE | 12/14/1999
01-99-182 | NEW YORK HARBOR, UPPER BAY | SAFETY ZONE | 12/31/1999
01-99-188 | DAVISVILLE DEPOT, DAVISVILLE, R.I. | SAFETY ZONE | 11/06/1999
01-99-415 | BRENTON POINT STATE PARK, RI | SAFETY ZONE | 11/07/1999
05-99-082 | NANTICOKE RIVER, SHARPTOWN, MD | SPECIAL LOCAL | 10/09/1999
05-99-084 | SPA CREEK, ANNAPOLIS HARBOR, MARYLAND | SPECIAL LOCAL | 11/06/1999
05-99-088 | JAMES RIVER, WILLIAMSBURG, VA | SAFETY ZONE | 10/05/1999
05-99-091 | MATTAPONI RIVER, WEST POINT, VA | SAFETY ZONE | 10/02/1999
05-99-092 | VIRGINIA BEACH, VA | SAFETY ZONE | 10/15/1999
05-99-093 | WALLACE CREEK, JACKSONVILLE, NORTH CAROLINA | SPECIAL LOCAL | 10/30/1999
05-99-099 | HARBOR PARK, NORFOLK, VA | SAFETY ZONE | 12/31/1999
05-99-100 | POTOMAC RIVER | SAFETY ZONE | 12/31/1999
07-99-073 | FAJARDO, PUERTO RICO | SPECIAL LOCAL | 11/04/1999
07-99-076 | TAMPA BAY, ST. PETERSBURG, FL | SPECIAL LOCAL | 11/17/1999
07-99-081 | GREAT BAY, SAINT THOMAS, USVI | SPECIAL LOCAL | 12/01/1999
07-99-084 | FAJARDO, PUERTO RICO | SPECIAL LOCAL | 12/11/1999
07-99-089 | SAVANNAH RIVER, SAVANNAH, GA | SPECIAL LOCAL | 12/31/1999
07-99-095 | GREAT BAY, SAINT THOMAS, USVI | SPECIAL LOCAL | 12/31/1999
07-99-096 | CANEEL BAY, SAINT JOHN, USVI | SPECIAL LOCAL | 12/31/1999
07-99-097 | WATER BAY, SAINT THOMAS, USVI | SPECIAL LOCAL | 12/31/1999
07-99-098 | GREAT CRUZ BAY, SAINT JOHN, USVI | SPECIAL LOCAL | 12/31/1999
08-99-065 | CLEAR LAKE RECREATIONAL AREA, TX | SPECIAL LOCAL | 12/11/1999
09-99-084 | LAKE MICHIGAN, CHICAGO, IL | SAFETY ZONE | 11/12/1999
13-99-045 | COLUMBIA RIVER, PORTLAND, OR | SAFETY ZONE | 10/30/1999
13-99-047 | DUWAMISH WATERWAY, WA | SAFETY ZONE | 11/30/1999
13-99-048 | ELLIOTT BAY, WA | SAFETY ZONE | 12/01/1999
13-99-049 | BELL STREET HARBOR, ELLIOTT BAY, WA | SAFETY ZONE | 12/02/1999
13-99-050 | PIER 62/63, SEATTLE, WA | SAFETY ZONE | 12/01/1999
13-99-051 | WILLAMETTE RIVER, PORTLAND, OR | SAFETY ZONE | 12/31/1999

COTP Quarterly Report
COTP Docket | Location | Type | Effective date
CHARLESTON 99-090 | CHARLESTON, SC | SAFETY ZONE | 12/31/1999
HOUSTON-GALVESTON MSU 99-012 | GULF OF MEXICO, M. 3.1 S. OF GALVESTON | SAFETY ZONE | 11/01/1999
HOUSTON-GALVESTON 99-004 | HOUSTON SHIP CHANNEL | SAFETY ZONE | 10/06/1999
HOUSTON-GALVESTON 99-005 | HOUSTON SHIP CHANNEL | SAFETY ZONE | 10/20/1999
HOUSTON-GALVESTON 99-006 | HOUSTON SHIP CHANNEL | SAFETY ZONE | 10/25/1999
HOUSTON-GALVESTON 99-007 | HOUSTON, TX | SAFETY ZONE | 12/01/1999
HOUSTON-GALVESTON 99-013 | GULF INTRACOASTAL WATERWAY, M. MARKER 334.5 | SAFETY ZONE | 11/30/1999
JACKSONVILLE 99-092 | ST. JOHNS RIVER, JACKSONVILLE, FL | SAFETY ZONE | 12/31/1999
JACKSONVILLE 99-075 | ST. JOHNS RIVER, JACKSONVILLE, FL | SAFETY ZONE | 11/04/1999
JACKSONVILLE 99-077 | ST. JOHNS RIVER, JACKSONVILLE, FL | SAFETY ZONE | 11/26/1999
JACKSONVILLE 99-084 | INTERCOASTAL WATERWAYS, ST. AUGUSTINE, FL | SAFETY ZONE | 12/31/1999
JACKSONVILLE 99-093 | ATLANTIC CITY, FL | SAFETY ZONE | 12/31/1999
JACKSONVILLE 99-094 | INDIAN RIVER, COCOA, FL | SAFETY ZONE | 12/31/1999
LA/LONG BEACH 99-006 | PIERPONT BAY, VENTURA, CA | SAFETY ZONE | 10/03/1999
LOUISVILLE 99-009 | OHIO RIVER M, 435.2 TO 437.2 | SAFETY ZONE | 12/07/1999
MEMPHIS 00-001 | LWR MISSISSIPPI RIVER, M. 781.5 | SAFETY ZONE | 10/13/1999
MEMPHIS 00-002 | LWR MISSISSIPPI RIVER, M. 790.5 | SAFETY ZONE | 10/19/1999
MEMPHIS 00-003 | WHITE RIVER, M. 0 TO 10 | SAFETY ZONE | 10/25/1999
MEMPHIS 00-004 | LWR MISSISSIPPI RIVER, M. 607 TO 603 | SAFETY ZONE | 10/28/1999
MEMPHIS 00-005 | WHITE RIVER, M. 0 TO 10 | SAFETY ZONE | 10/30/1999
MEMPHIS 00-008 | WHITE RIVER, M. 0 TO 10 | SAFETY ZONE | 11/19/1999
MEMPHIS 00-009 | LWR MISSISSIPPI RIVER, M. 604 TO 606 | SAFETY ZONE | 11/25/1999
MEMPHIS 00-010 | WHITE RIVER, M. 0 TO 10 | SAFETY ZONE | 12/04/1999
MEMPHIS 00-011 | LWR MISSISSIPPI RIVER, M. 561 TO 563 | SAFETY ZONE | 12/09/1999
NEW ORLEANS 99-028 | LWR MISSISSIPPI RIVER, M. 362.T TO 365 | SAFETY ZONE | 10/15/1999
NEW ORLEANS 99-029 | HALTER MARINE, NEW ORLEANS | SAFETY ZONE | 11/06/1999
NEW ORLEANS 99-030 | LWR MISSISSIPPI RIVER, M. 221.7 TO 223.7 | SAFETY ZONE | 11/03/1999
NEW ORLEANS 99-031 | LWR MISSISSIPPI RIVER, M. 94 TO 96 | SAFETY ZONE | 11/18/1999
NEW ORLEANS 99-032 | LWR MISSISSIPPI RIVER, M. 94 TO 96 | SAFETY ZONE | 12/31/1999
NEW ORLEANS 99-033 | LWR MISSISSIPPI RIVER, M. 139.4 | SAFETY ZONE | 12/03/1999
NEW ORLEANS 99-035 | LWR MISSISSIPPI RIVER, M. 228 TO 231 | SAFETY ZONE | 12/11/1999
NEW ORLEANS 99-036 | LWR MISSISSIPPI RIVER, M. 362.5 TO 365 | SAFETY ZONE | 12/31/1999
PITTSBURGH 99-001 | ALLEGHENY RIVER, M. 0.1 TO 1.0 | SAFETY ZONE | 12/31/1999
PITTSBURGH 99-002 | OHIO RIVER, M. 29.3 TO 29.5 | SAFETY ZONE | 12/31/1999
PITTSBURGH 99-003 | OHIO RIVER, M. 62.7 TO 62.9 | SAFETY ZONE | 12/31/1999
PORT ARTHUR 99-001 | NECHES RIVER, PORT NECHES, TX | SAFETY ZONE | 12/03/1999
SAN DIEGO 99-012 | COLORADO RIVER, AZ | SAFETY ZONE | 10/30/1999
SAN DIEGO 99-013 | SAN DIEGO BAY | SAFETY ZONE | 11/31/1999
SAN FRANCISCO BAY 99-024 | HUMBOLDT BAY, EUREKA, CA | SAFETY ZONE | 10/01/1999
SAN FRANCISCO BAY 99-025 | MONTEREY BAY, CA | SAFETY ZONE | 10/09/1999
SAN FRANCISCO BAY 99-026 | SAN FRANCISCO BAY, CA | SAFETY ZONE | 10/20/1999
SAN FRANCISCO BAY 99-027 | MONTEREY BAY, CA | SAFETY ZONE | 11/12/1999
SAN FRANCISCO BAY 99-028 | SAN FRANCISCO BAY, SAN FRANCISCO, CA | SAFETY ZONE | 12/31/1999
SAN JUAN 99-078 | SAN JUAN HARBOR, SAN JUAN, PUERTO RICO | SAFETY ZONE | 11/20/1999
SAN JUAN 99-079 | SAN JUAN, PUERTO RICO | SAFETY ZONE | 11/22/1999
TAMPA 99-069 | TAMPA BAY, FL | SAFETY ZONE | 10/12/1999
TAMPA 99-070 | TAMPA BAY, FL | SAFETY ZONE | 10/14/1999
TAMPA 99-071 | WEST COAST, FL | SAFETY ZONE | 10/15/1999

[FR Doc. 00-3824 Filed 2-16-00; 8:45 am]

BILLING CODE 4910-15-M